COMMITTEE FOR PURCHASE FROM PEOPLE WHO ARE BLIND OR SEVERELY DISABLED

Procurement List Addition

AGENCY: Committee for Purchase From People Who Are Blind or Severely Disabled.

ACTION: Addition to the procurement list.

SUMMARY: This action adds a service to the Procurement List that will be provided by nonprofit agencies employing persons who are blind or have other severe disabilities.

DATES: Effective Date: 2/29/2016.

ADDRESSES: Committee for Purchase From People Who Are Blind or Severely Disabled, 1401 S. Clark Street, Suite 715, Arlington, Virginia, 22202-4149.

FOR FURTHER INFORMATION CONTACT: Barry S. Lineback, Telephone: (703) 603-7740, Fax: (703) 603-0655, or email CMTEFedReg@AbilityOne.gov.

SUPPLEMENTARY INFORMATION:

Addition

On December 18, 2015 (80 FR 79031-79032), the Committee for Purchase From People Who Are Blind or Severely Disabled published notice of proposed additions to the Procurement List.

After consideration of the material presented to it concerning capability of qualified nonprofit agencies to furnish the service and impact of the additions on the current or most recent contractors, the Committee has determined that the service listed below is suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will provide the service to the Government.

2. The action will result in authorizing small entities to provide the service to the Government.

3. There are no known regulatory alternatives which would accomplish the objectives of the Javits-Wagner-O'Day Act (41 U.S.C. 8501-8506) in connection with the service proposed for addition to the Procurement List.

End of Certification

Accordingly, the following service is added to the Procurement List:

Service

Service Type: Help Desk Support Service

Service is Mandatory For: U.S. Army, Army Training Support Center, Combined Arms Center for Training, 3306 Wilson Avenue, Joint Base Langley-Eustis, VA

Mandatory Source(s) of Supply: ServiceSource, Inc., Alexandria, VA, Orion Career Works, Auburn, WA

Contracting Activity: Dept of the Army, W6QM MICC-FDO Ft Eustis, Fort Eustis, VA

Additional Information

The Committee finds good cause to dispense with the 30-day delay in the effective date normally required by the Administrative Procedure Act. 5 U.S.C. 553(d). This addition to the Committee's Procurement List is a reaction to the expiration of the U.S. Army help desk support services contract. The Federal customer contacted, and has worked with the AbilityOne Program since April 2015 to fulfill this service need under the AbilityOne Program. To avoid performance disruption, and the possibility that the U.S. Army will have no viable alternative but to procure this service, this addition must be effective on February 29, 2016, ensuring timely execution for a March 1, 2016, start date while still allowing 18 days for comment. Pursuant to its own regulation 41 CFR 51-2.4, the Committee has been in contact with one of the affected parties, the incumbent of the expiring contract, since May 2015 and determined that no severe adverse impact exists. The Committee also published a notice of proposed Procurement List addition in the Federal Register on December 18, 2015, and did not receive any comments from any interested persons, including from the incumbent contractor. This addition will not create a public hardship and has limited effect on the public at large, but rather will create new jobs for other affected parties—people with severe disabilities in the AbilityOne program who otherwise face challenges locating employment and will enable Federal customer operations to continue without interruption.

Barry S. Lineback,
Director, Business Operations.

[FR Doc. 2016-02941 Filed 2-11-16; 8:45 am]

BILLING CODE 6353-01-P